DEPARTMENT OF THE INTERIOR

Bureau of Land Management

[LLIDI00000.LF31010WU.PN0000.LFHFPJ020000]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The Idaho Falls District RAC will meet in Challis, Idaho, September 27-28, 2011 for a two-day meeting at the Challis Field Office, 1151 Blue Mountain Road, Challis, Idaho 83226. The first day will begin at 10:30 a.m. and adjourn at 5 p.m. The second day will begin at 8:30 a.m. and adjourn at 2:30 p.m. Members of the public are invited to attend. A comment period will be held following the introductions at 10:30 a.m. All meetings are open to the public.

SUPPLEMENTARY INFORMATION: The 15-member Council advises the Secretary of the Interior, through the Bureau of Land Management, on a variety of planning and management issues associated with public land management in the BLM Idaho Falls District (IFD), which covers eastern Idaho.

Items on the agenda will include an overview of the current issues affecting the District and Field Offices, review and approval of past meeting minutes, public comment period and discussion of the Wild Horse and Burro program in Challis, and other issues pertinent to the Challis Field Office. Following the morning part of the meeting, a tour of the Wild Horse and Burro facilities and herd management area will be conducted. On the second day, RAC members will meet to discuss the increased monitoring requirements related to threatened and endangered species and the impacts this is having on the local field office. A tour will be conducted at one of the monitoring sites to provide the RAC with a greater understanding of implementation.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Sarah Wheeler, RAC Coordinator, Idaho Falls District, 1405 Hollipark Dr., Idaho Falls, ID 83401. Telephone: (208) 524-7550. E-mail: Sarah_Wheeler@blm.gov.

Dated: July 18, 2011.
Joe Kraayenbrink,
Idaho Falls District Manager.

[FR Doc. 2011-20128 Filed 8-8-11; 8:45 am]

BILLING CODE 4310-GG-P